DEPARTMENT OF THE INTERIOR

Bureau of Land Management

[LLWY-957400-09-L14200000-BJ0000]

Notice of Filing of Plats of Survey, Wyoming

AGENCY: Bureau of Land Management, Interior.

ACTION: Notice of Filing of Plats of Survey, Wyoming.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The supplemental plat representing the segregation of Tract 54 from Tract 52 in Section 24, Township 41 North, Range 117 West, of the Sixth Principal Meridian, Wyoming, was accepted May 13, 2009.

The plat representing the entire record of the corrective dependent resurvey of the subdivision of section 4, Township 12 North, Range 60 West, of the Sixth Principal Meridian, Wyoming, Group No. 806, was accepted June 29, 2009.

The supplemental plat showing corrected lotting and acreage based on the plat approved March 4, 1993, Township 49 North, Range 78 West, of the Sixth Principal Meridian, Wyoming, was accepted June 29, 2009.

The plat representing the entire record of the dependent resurvey of portions of the subdivisional lines, Tract 37 and subdivision of Section 10, designed to restore the corners in their true original locations according to the best available evidence, Township 18 North, Range 99 West, of the Sixth Principal Meridian, Wyoming, Group No. 690, was accepted July 7, 2009.

The plat and field notes representing the dependent resurvey of a portion of the Fourth Standard Parallel North, through Ranges 82 and 83 West, a portion of the south and east boundaries, a portion of the subdivisional lines, and the subdivision of certain sections, Township 16 North, Range 83 West, of the Sixth Principal Meridian, Wyoming, Group No. 681, was accepted September 8, 2009.

The plat and field notes representing the dependent resurvey of a portion of the Fourth Standard Parallel North, through Ranges 81 and 82 West, a portion of the south and east boundaries, a portion of the subdivisional lines, and the subdivision of certain sections, Township 16 North, Range 82 West, of the Sixth Principal Meridian, Wyoming, Group No. 682, was accepted September 8, 2009.

The plat and field notes representing the dependent resurvey of a portion of the subdivisional lines and the subdivision of section 14, Township 51 North, Range 93 West, of the Sixth Principal Meridian, Wyoming, Group No. 786, was accepted September 8, 2009.

Copies of the preceding described plats and field notes are available to the public at a cost of $1.10 per page.

Dated: September 18, 2009.
John P. Lee,
Chief Cadastral Surveyor, Division of Support Services.

[FR Doc. E9-23030 Filed 9-23-09; 8:45 am]

BILLING CODE 4310-22-P